DEPARTMENT OF LABOR

Employment and Training Administration

[TA-W-64,868]

Costa Blanca Textile, Inc., Highpoint, NC; Notice of Termination of Investigation

Pursuant to Section 221 of the Trade Act of 1974, as amended, an investigation was initiated on January 13, 2009 in response to a petition filed by a company official on behalf of workers of Costa Blanca Textile, Inc., Highpoint, North Carolina.

The petitioner has requested that the petition be withdrawn. Consequently, the investigation has been terminated.

Signed at Washington, DC, this 21st day of January 2009.
Richard Church,
Certifying Officer, Division of Trade Adjustment Assistance.

[FR Doc. E9-2742 Filed 2-9-09; 8:45 am]

BILLING CODE 4510-FN-P